DEPARTMENT OF HOMELAND SECURITY

Federal Emergency Management Agency

[Docket ID FEMA-2012-0019; OMB No. 1660-0073]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Urban Search and Rescue Response System information collection.

DATES: Comments must be submitted on or before July 9, 2012.

ADDRESSES: To avoid duplicate submissions to the docket, please use only one of the following means to submit comments:

(1) Online. Submit comments at www.regulations.gov under Docket ID FEMA-2012-0019. Follow the instructions for submitting comments.

(2) Mail. Submit written comments to Docket Manager, Office of Chief Counsel, DHS/FEMA, 500 C Street SW., Room 835, Washington, DC 20472-3100.

(3) Facsimile. Submit comments to (703) 483-2999.

(4) Email. Submit comments to FEMA-POLICY@dhs.gov. Include Docket ID FEMA-2012-0019 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Catherine Deel, Program Specialist, Urban Search and Rescue Branch at 202-646-3796. You may contact the Records Management Division for copies of the proposed collection of information at facsimile number (202) 646-3347 or email address: FEMA-Information-CollectionsManagement@dhs.gov.

SUPPLEMENTARY INFORMATION: Section 303 of the Robert T. Stafford Disaster Relief and Emergency Assistance Act (Stafford Act), 42 U.S.C. 5144, authorizes the President of the United States to form emergency support teams of Federal personnel to be deployed to an area affected by major disaster or emergency. Section 403(a)(3)(B) of the Stafford Act provides that the President may authorize Federal Agencies to perform work on public or private lands essential to save lives and protect property, including search and rescue and emergency medical care, and other essential needs. The Post Katrina Emergency Management Reform Act (PKEMRA) codified the Urban Search and Rescue in the Homeland Security Act (HAS) of 2002 (as amended), stating “There is in the Agency [FEMA] a system known as the Urban Search and Rescue Response System” (US&R) under these authorities. The information collection activity authorized under 44 CFR part 208, 44 CFR part 13, and OMB Circular A-110 is the collection of program and administrative information from US&R Sponsoring Agencies relating to readiness and response cooperative agreement awards.

Collection of Information

Title: National Urban Search and Rescue Grant Program.

Type of Information Collection: Revision of a currently approved information collection.

FEMA Forms: FEMA Form 089-0-10, Urban Search Rescue Response System Narrative Statement; FEMA Form 089-0-11, Urban Search Rescue Response System Semi-Annual Performance Report; FEMA Form 089-0-12, Urban Search Rescue Response System Budget Change Form; FEMA Form 089-0-14, Urban Search Rescue Response System Self Evaluation; and FEMA Form 089-0-15, Urban Search Rescue Response System Task Force Deployment Data.

Abstract: The information collected for the National Urban Search and Rescue Grant Program evaluates a grantee's proposed use of funds and is required information needed in order to receive Federal funding. The forms used in this collection are used by grantees to provide FEMA with cooperative agreements and a description of the types of eligible activities the grantee will undertake and a plan for expending and monitoring funds.

Affected Public: State, local or Tribal government.

Number of Respondents: 28.

Number of Responses: 1.

Estimated Total Annual Burden Hours: 476 hours.

Estimated Cost: There are no record keeping, capital start-up or maintenance costs associated with this information collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 1, 2012.
John G. Jenkins, Jr.,
Acting Chief Administrative Officer, Mission Support Bureau, Federal Emergency Management Agency, Department of Homeland Security.

[FR Doc. 2012-10996 Filed 5-7-12; 8:45 am]

BILLING CODE 9111-54-P